DEPARTMENT OF THE TREASURY

Internal Revenue Service

26 CFR Part 1

[TD 8849]

RIN 1545-AW57

Section 663(c); Separate Share Rules Applicable to Estates; Correction

AGENCY: Internal Revenue Service (IRS), Treasury.

ACTION: Correction to final regulations.

SUMMARY: This document contains corrections to final regulations which were published in the Federal Register on Tuesday, December 28, 1999 (64 FR 72540), relating to separate share rules applicable to estates under section 663(c) of the Internal Revenue Code.

DATES: This correction is effective December 28, 1999.

FOR FURTHER INFORMATION CONTACT: Laura Howell at (202) 622-3060 (not a toll-free number).

SUPPLEMENTARY INFORMATION:

Background

The final regulations that are the subject of this correction are under 663(c) of the Internal Revenue Code.

Need for Correction

As published, the final regulations (TD 8849) contain errors that may prove to be misleading and are in need of clarification.

Correction of Publication

Accordingly, the publication of the final regulations (TD 8849), which were the subject of FR Doc. 99-32694, is corrected as follows:

1. On page 72542, in the preamble, 3rd column, under the heading “Effective Dates”, line 4, the language “with respect to decedents who die after” is corrected to read “with respect to decedents who die on or after”.

§ 1.663(c)-5 [Corrected]

2. On page 72544, column 3, § 1.663(c)-5 Example 4(i), lines 6 and 7, the language, “the child in the amount needed to reduce the estate taxes to zero and a bequest of the” is corrected to read “the child of the largest amount that can pass free of Federal estate tax and a bequest of the”.

§ 1.663(c)-6 [Corrected]

3. On page 72545, column 3, § 1.663(c)-6, line 5, the language “decedents who die after December 28,” is corrected to read “decedents who die on or after December 28,”.

Dale D. Goode,
Federal Register Liaison, Assistant Chief Counsel (Corporate).

[FR Doc. 00-5236 Filed 3-27-00; 8:45 am]

BILLING CODE 4830-01-P